FEDERAL COMMUNICATIONS COMMISSION

47 CFR Part 73

[DA 07-810; MB Docket No. 05-97; RM-11186; RM-11251]

Radio Broadcasting Services; Milano, TX

AGENCY: Federal Communications Commission.

ACTION: Final rule.

SUMMARY: The Audio Division granted a Petition for Rule Making filed by Charles Crawford, requesting the allotment of Channel 274A at Milano, Texas, as its first local service. The reference coordinates for Channel 274A at Milano, Texas are 30-38-30 NL and 96-55-00 WL. This allotment requires a site restriction of 9.2 kilometers (5.7 miles) southwest of Milano to avoid a short-spacing to the license site of FM Station KBRQ, Channel 273C1, Hillsboro, Texas. A counterproposal filed by Starboard Media Foundation, Inc., proposing the reservation of Channel 274A at Milano, Texas for noncommercial educational use was dismissed pursuant to Section 73.525(c) of the Commission's Rules.

DATES: Effective April 9, 2007.

ADDRESSES: Secretary, Federal Communications Commission, 445 Twelfth Street, SW., Washington, DC 20554.

FOR FURTHER INFORMATION CONTACT: Rolanda F. Smith, Media Bureau, (202) 418-2180.

SUPPLEMENTARY INFORMATION: This is a summary of the Commission's Report and Order, MB Docket No. 05-97, adopted February 21, 2007, and released February 23, 2007. The Notice of Proposed Rule Making proposed the allotment of Channel 274A at Milano, Texas. See 70 FR 15046, published March 24, 2005. The full text of this Commission decision is available for inspection and copying during normal business hours in the Commission's Reference Center, 445 Twelfth Street, SW., Washington, DC 20554. The complete text of this decision may also be purchased from the Commission's duplicating contractor, Best Copy and Printing, Inc., 445 12th Street, SW., Room CY-B402, Washington, DC 20554, telephone 1-800-378-3160 or www.BCPIWEB.com. The Commission will send a copy of this Report and Order in a report to be sent to Congress and the Government Accountability Office pursuant to the Congressional Review Act, see 5 U.S.C. 801(a)(1)(A).

List of Subjects in 47 CFR Part 73

Radio, Radio broadcasting.

As stated in the preamble, the Federal Communications Commission amends 47 CFR Part 73 as follows:

PART 73—RADIO BROADCAST SERVICES

1. The authority citation for part 73 continues to read as follows:

Authority: 47 U.S.C. 154, 303, 334, 336.

§ 73.202 [Amended]

2. Section 73.202(b), the Table of FM Allotments under Texas, is amended by adding Milano, Channel 274A.

Federal Communications Commission.
John A. Karousos,
Assistant Chief, Audio Division, Media Bureau.

[FR Doc. E7-4543 Filed 3-13-07; 8:45 am]

BILLING CODE 6712-01-P